DEPARTMENT OF HEALTH AND HUMAN SERVICES

Food and Drug Administration

21 CFR Part 1240

Turtles Intrastate and Interstate Requirements

AGENCY: Food and Drug Administration, HHS.

ACTION: Final rule; technical amendment.

SUMMARY: The Food and Drug Administration (FDA) is amending its regulation regarding the intrastate and interstate distribution of turtles to reflect a change in responsibility for administering the provisions of the regulations from FDA's Center for Food Safety and Applied Nutrition (CFSAN) to FDA's Center for Veterinary Medicine (CVM). FDA is taking this action to enable the agency to more effectively administer the provisions of this regulation.

DATES: This rule is effective August 16, 2005.

FOR FURTHER INFORMATION CONTACT: Joseph Paige, Center for Veterinary Medicine (HFV-230), Food and Drug Administration, 7519 Standish Pl., Rockville, MD 20855, 240-276-9210, e-mail: jpaige@cvm.fda.gov.

SUPPLEMENTARY INFORMATION: FDA is amending its regulations regarding the intrastate and interstate distribution of turtles (§ 1240.62 (21 CFR 1240.62)) to reflect the transfer of regulatory responsibility from CFSAN to CVM. Except as otherwise provided, § 1240.62 requires that viable turtle eggs and live turtles with a carapace length of less than 4 inches not be sold, held for sale, or offered for any other type of commercial or public distribution. FDA is amending this regulation because current expertise for addressing issues regarding this regulation is within CVM. Reassigning regulatory responsibility to CVM more effectively utilizes agency resources in administering the provisions of the regulation.

Publication of this document constitutes final action on this change under the Administrative Procedures Act (5 U.S.C. 553). FDA has determined that notice and public comment are unnecessary because this amendment to the regulation is nonsubstantive. It merely reflects an organizational change.

List of Subjects in 21 CFR Part 1240

Communicable diseases, Public health, Travel restrictions, Water supply.

Therefore, under the Public Health Service Act and under authority delegated to the Commissioner of Food and Drugs, 21 CFR part 1240 is amended as follows:

PART 1240—CONTROL OF COMMUNICABLE DISEASES

1. The authority citation for 21 CFR part 1240 continues to read as follows:

Authority: 42 U.S.C. 216, 243, 264, 271.

§ 1240.62 [Amended]

2. Section 1240.62 is amended as follows:

a. In paragraphs (c)(1)(i), (c)(1)(ii), (c)(1)(v), and (c)(2) by removing “Director of the Center for Food Safety and Applied Nutrition” each time it appears, and adding in its place “Director of the Center for Veterinary Medicine”.

b. In paragraph (c)(1)(ii) by removing “5100 Paint Branch Pkwy., College Park, MD 20740”, and adding in its place “7519 Standish Pl., Rockville, MD 20855”.

Dated: August 9, 2005.
Jeffrey Shuren,
Assistant Commissioner for Policy.

[FR Doc. 05-16142 Filed 8-15-05; 8:45 am]

BILLING CODE 4160-01-S